FEDERAL RESERVE SYSTEM

Formations of, Acquisitions by, and Mergers of Bank Holding Companies; Correction

This notice corrects a notice (FR Doc. 00-10965) published on page 25729 of the issue for Wednesday, May 3, 2000.

Under the Federal Reserve Bank of Dallas heading, the entry for Eggemeyer Advisory Corporation, WJR Corporation, Caste Creek Capital, LLC, and Castle Creek Capital Partners Funds I, IIa and IIb, LP, all of Rancho Santa Fe, California, is revised to read as follows:

A Federal Reserve Bank of Dallas (W. Arthur Tribble, Vice President) 2200 North Pearl Street, Dallas, Texas 75201-2272:

1. Eggemeyer Advisory Corporation, WJR Corporation, Castle Creek Capital, LLC, and Castle Creek Capital Partners Funds I, IIa, and IIb, LP, all of Rancho Santa Fe, California, to acquire more than 5 percent of the voting shares of Independent Bankshares, Inc., Abilene, Texas, and thereby indirectly acquire Independent Financial Corporation, Dover, Delaware, and First State Bank, N.A., Abilene, Texas.

In connection with this application, Applicants also have applied to acquire up to 35 percent of the voting shares of State National Bancshares, Inc., Lubbock, Texas, and thereby indirectly acquire voting shares of State National Bancshares Delaware, Inc., Dover, Delaware, State National Bank of El Paso, El Paso, Texas, State National Bank of West Texas, Lubbock, Texas, and United Bank & Trust Company, Abilene, Texas.

Comments on this application must be received by May 26, 2000.

Board of Governors of the Federal Reserve System, May 3, 2000.
Robert deV. Frierson,
Associate Secretary of the Board.

[FR Doc. 00-11474 Filed 5-8-00; 8:45 am]

BILLING CODE 6210-01-P